DEPARTMENT OF STATE

Office of Foreign Missions

[Public Notice 4053]

60-Day Notice of Proposed Information Collection: Form DS-98, Application for Diplomatic Exemption From Taxes on Utilities; and Form DS-99, Application for Diplomatic Exemption From Taxes on Gasoline (OMB Control Number 1405-0069)

ACTION: Notice.

SUMMARY: The Department of State is seeking Office of Management and Budget (OMB) approval for the reinstatement of the information collection described below. The purpose of this notice is to allow 60 days for public comment in the Federal Register preceding submission to OMB. This process is conducted in accordance with the Paperwork Reduction Act of 1995.

The following summarizes the information collection reinstatement request to be submitted to OMB:

Type of Request: The reinstatement of a previously approved collection of information for which OMB approval has expired.

Originating Office: Bureau of Diplomatic Security, Office of Foreign Missions, Vehicle, Tax and Customs Unit, DS/OFM/VTC.

Title of Information Collection: Applications for Diplomatic Exemption from Taxes on Utilities and Application for Diplomatic Exemption from Taxes on Gasoline, Forms DS-98—DS-99

Frequency of Collection: As necessary. 1256 (DS-98) and 1600 (DS-99) Requests were submitted during CY 2001.

Respondents: Eligible foreign missions in the U.S. and their staffs, diplomats assigned to certain international organizations, and military personnel assigned to foreign missions.

Form Number: Form DS-98—Application for Exemption from Taxes on Utilities.

Estimated Number of Respondents: Approximately 1256.

Average Hours Per Response: Approximately one minute per response

Total Estimated Burden: Approximately 20 hours.

Respondents: Eligible foreign missions in the U.S. and their staffs, diplomats assigned to certain international organizations, and military personnel assigned to foreign missions.

Form Number: Form DS-99—Application for Exemption from Taxes on Gasoline.

Estimated Number of Respondents: Approximately 1600

Average Hours Per Response: Approximately one minute per response

Total Estimated Burden: Approximately 28 hours

Public comments are being solicited to permit the agency to:

• Evaluate whether the extension of this information collection is necessary for the proper performance of the functions of the agency.

• Evaluate the accuracy of the agency's estimate of the burden of the proposed collection, including the validity of the methodology and assumptions used.

• Enhance the quality, utility, and clarity of the information to be collected.

• Minimize the reporting burden on those who are to respond, including through the use of automated collection techniques or other forms of technology.

FOR FURTHER INFORMATION CONTACT: Public comments, or requests for additional information, regarding the collection listed in this notice should be directed to Mr. E. McGill, DS/OFM/VTC, 3507 International Place, NW, Wash., DC 20008, who may be reached on 202-895-3618.

Dated: May 15, 2002.
Theodore Strickler,
Deputy Assistant Secretary, Bureau of Diplomatic Security Department of State.

[FR Doc. 02-15972 Filed 6-24-02; 8:45 am]

BILLING CODE 4710-43-P